INTERNATIONAL TRADE COMMISSION

[USITC SE-14-002]

Sunshine Act Meetings

AGENCY HOLDING THE MEETING: United States International Trade Commission.

TIME AND DATE: January 31, 2014 at 11 a.m.

PLACE: Room 101, 500 E Street SW., Washington, DC 20436, Telephone: (202) 205-2000.

STATUS: Open to the public.

MATTERS TO BE CONSIDERED:

1. Agendas for future meetings: none

2. Minutes

3. Ratification List

4. Vote in Inv. Nos. 701-TA-510 and 731-TA-1245 (Preliminary) (Calcium Hypochlorite from China). The Commission is currently scheduled to complete and file its determinations on February 3, 2014; views of the Commission are currently scheduled to be completed and filed on February 10, 2014.

5. Outstanding action jackets: none.

In accordance with Commission policy, subject matter listed above, not disposed of at the scheduled meeting, may be carried over to the agenda of the following meeting.

By order of the Commission:
Issued: January 23, 2014.
William R. Bishop,
Supervisory Hearings and Information Officer.

[FR Doc. 2014-01819 Filed 1-27-14; 11:15 am]

BILLING CODE 7020-02-P